DEPARTMENT OF THE INTERIOR

Bureau of Land Management

[LLCOS00000-L12200000.DF0000-19X]

Notice of Public Meetings, Southwest Resource Advisory Council, Colorado

AGENCY: Bureau of Land Management, Interior.

ACTION: Notice of public meetings.

SUMMARY: In accordance with the Federal Land Policy and Management Act and the Federal Advisory Committee Act of 1972, the U.S. Department of the Interior, Bureau of Land Management (BLM) Southwest Resource Advisory Council (RAC) will meet as indicated below.

DATES: The Southwest RAC has scheduled its meetings for December 12, 2019, and March 25, 2020. Each meeting will begin at 8 a.m. and adjourn at approximately 3 p.m.

ADDRESSES: The December 12, 2019, meeting will be held in Montrose, CO, at the Public Lands Center, 2465 South Townsend Ave.; and the March 25, 2020, meeting will be held in Grand Junction, CO, at the BLM Grand Junction Field Office, 2815 H Road.

FOR FURTHER INFORMATION CONTACT: Eric Coulter, Public Affairs Specialist, Southwest District, 2815 H Road, Grand Junction, CO 81506; phone: (970) 244-3061; email: ecoulter@blm.gov. Persons who use a telecommunications device for the deaf (TDD) may call the Federal Relay Service (FRS) at 1-800-877-8339 to contact Mr. Coulter during normal business hours. The FRS is available 24 hours a day, 7 days a week, to leave a message or question. You will receive a reply during normal business hours.

SUPPLEMENTARY INFORMATION: The 15-member Southwest Colorado RAC advises the Secretary of the Interior, through the BLM, on a variety of public-land issues in the Southwest District, including the Grand Junction, Uncompahgre, and Tres Rios field offices. Topics of discussion for these meetings include recreation, recreation fee proposals, fire management, land use planning, invasive species management, energy and minerals management, travel management, wilderness, wild horse herd management, land management proposals, cultural resource management, and other issues as appropriate. The December 12 agenda includes reviewing a fee proposal for the Canyons of the Ancients Visitor Center and Museum, a discussion about illegal dumping on public lands, and an update on the Uncompahgre Resource Management Plan.

The meetings are open to the public, and a public comment period will be held at 2:30 p.m. at each meeting. Depending on the number of persons wishing to comment and the time available, time allotted for individual oral comments may be limited. The public may also present written comments to the SW RAC. Before including your address, phone number, email address, or other personal identifying information in your comment, you should be aware that your entire comment—including your personal identifying information—may be made publicly available at any time. While you can ask us in your comment to withhold your personal identifying information from public review, we cannot guarantee that we will be able to do so.

Detailed minutes for the RAC meetings will be maintained in the Southwest District Office and will be available for public inspection and reproduction during regular business hours within 30 days following the meeting. Previous minutes, membership information, and upcoming agendas are available at https://www.blm.gov/get-involved/resource-advisory-council/near-you/colorado/southwest-rac.

(Authority: 43 CFR 1784.4-2)

Gregory P. Shoop,
Colorado Associate State Director.

[FR Doc. 2019-24908 Filed 11-15-19; 8:45 am]

BILLING CODE 4310-JB-P